GENERAL SERVICES ADMINISTRATION

Notice of Availability of the Draft Environmental Impact Statement for a New Federal Bureau of Investigation (FBI) Field Office Headquarters Facility in Los Angeles, CA

AGENCY: Public Buildings Service, GSA.

ACTION: Notice of Availability and Public Hearing.

SUMMARY: The General Services Administration (GSA) announces the availability of the draft Environmental Impact Statement (EIS) for construction of a new facility to house the Los Angeles Field Office Headquarters of the Federal Bureau of Investigation (FBI) for public review and comment. The EIS provides GSA and the public with an analysis of the environmental impacts that may result from two alternative construction proposals and a No Action alternative.

DATES: Written comments on the draft EIS are invited from the public and may be submitted through the end of the comment period on April 24, 2006 (see ADDRESS section for more details). Comments must be postmarked by April 24, 2006, to ensure consideration; late comments will be considered to the extent practicable. The GSA will use the comments received to help prepare the final version of the EIS. The public is cordially invited to participate in a Public Hearing scheduled on Tuesday, March 14, 2006 from 4:00 p.m. to 8:30 p.m. at the Doubletree Los Angeles—Westwood, 10740 Wilshire Boulevard, Los Angeles, California, 90024. The Public Hearing will be divided into two sessions from 4:00—6:00 p.m. and 6:30—8:30 p.m.; at the beginning of each session (at 4:30 PM and 6:30 PM) GSA will make brief identical presentations, each followed by a period for public comment. The Public Hearing will provide information on the proposed alternatives and their impacts, as well as an opportunity for the public to submit oral and written comments.

ADDRESSES: Comments may be submitted in writing to: Morris Angell, Regional Environmental Quality Advisor, GSA, Portfolio Management Division (9PTC), 450 Golden Gate Ave., 3rd Floor E, San Francisco, CA 94102, or via e-mail to Morris.Angell@gsa.gov. Oral and written comments may also be submitted at the public hearing described in the DATES section.

FOR FURTHER INFORMATION CONTACT: Morris Angell at (415) 522-3473 or via email at Morris.Angell@gsa.gov.

SUPPLEMENTARY INFORMATION: A notice of availability will be mailed to all agencies, organizations, and individuals who participated in the scoping process or were identified during the EIS process. GSA has distributed copies of the draft EIS to appropriate Congressional members and committees, the State of California, other federal agencies, and all interested parties who have requested copies.

The Draft EIS was prepared pursuant to the National Environmental Policy Act of 1969 (NEPA) [42 U.S.C. 4321 et seq.] and the Council on Environmental Quality NEPA regulations [40 CFR part 1500]. The draft EIS presents comparisons of these impacts among two action and one no action alternatives. For each alternative, impact discussions are presented by resource area (e.g. land use, geology and soils) or topic area (e.g., traffic, environmental justice).

After the public comment period, which ends April 24, 2006, GSA will consider the comments received, revise the draft EIS, select a preferred alternative, and issue a Final EIS. GSA will consider the Final EIS, along with other economic and technical considerations, to make a decision on the appropriate course of action.

Dated: February 16, 2006.
Peter G. Stamison,
Regional Administrator, Public Buildings Service, Pacific Rim Region.

[FR Doc. 06-1863 Filed 2-27-06; 8:45 am]

BILLING CODE 6820-YF